DEPARTMENT OF COMMERCE

National Institute of Standards and Technology

Proposed Information Collection; Comment Request; Manufacturing Extension Partnership (MEP) Client Impact Survey

AGENCY: National Institute of Standards and Technology (NIST), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 2, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Kenneth P. Voytek, National Institute of Standards and Technology, Manufacturing Extension Partnership, 100 Bureau Drive, MS 4800, Gaithersburg, MD 20899-4800, 301-975-4614 (phone), 301-963-6556 (Fax), kvoytek@nist.gov (e-mail).

SUPPLEMENTARY INFORMATION:

I. Abstract

The National Institute of Standards and Technology (NIST) sponsors the Manufacturing Extension Partnership (MEP), a national network of fifty-nine (59) locally based manufacturing extension centers working with small manufacturers to help them improve their productivity, profitability, and enhance their overall economic competitiveness.

NIST MEP surveys all clients provided substantive services and collects data on sales, investment, cost savings, and jobs impacts as well as a limited set of qualitative questions. NIST MEP surveys center clients for two primary purposes:

• To collect aggregate information on program performance indicators to report to various stakeholders on program performance. The survey provides information about the quantifiable impacts that clients attribute to the services provided by MEP centers. NIST MEP also conducts other episodic studies to evaluate the system's impact that corroborate and complement the survey results.

• To provide center-specific program performance and impact information for center use. Centers use this information to communicate results to their own stakeholders, at both the state and federal level. Center management and NIST MEP use these results to evaluate center performance and effectiveness. The MEP Center Review Criteria and review process place strong emphasis on a center's ability to demonstrate impacts based on the survey results.

The specific information obtained from clients about the impact of MEP services is essential for NIST officials to monitor and report on program performance and plan program improvements aimed at improving program efficiency and effectiveness. This information is not available from existing programs or other sources. The collection of information is currently conducted by a contractor. This submission under the Paperwork Reduction Act represents a request for an extension of a currently approved collection.

II. Method of Collection

The survey data will be collected through a combination of phone and web-based surveys.

III. Data

OMB Control Number: 0693-0021.

Form Number: None.

Type of Review: Regular submission.

Affected Public: Business or other for-profit organizations.

Estimated Number of Respondents: 8,000.

Estimated Time Per Response: 8 minutes.

Estimated Total Annual Burden Hours: 1,067.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 26, 2008.
Gwellnar Banks,
Management Analyst, Office of the Chief Information Officer.

[FR Doc. E8-14934 Filed 7-1-08; 8:45 am]

BILLING CODE 3510-13-P